DEPARTMENT OF LABOR

Occupational Safety and Health Administration

[Docket No. ICR-1218-0203(2002)]

Standard on Permit-Required Confined Spaces; Extension of the Office of Management and Budget's Approval of Information-Collection (Paperwork) Requirements

AGENCY: Occupational Safety and Health Administration (OSHA), Labor.

ACTION: Request for comment.

SUMMARY: OSHA requests comment concerning its proposed extension of the information-collection requirements specified by its Standard on Permit-Required Confined Spaces (29 CFR 1910.146). The Standard specifies a number of collection-of-information requirements. The collections of information are used by employers and employees whenever entry is made into permit-required confined spaces.

DATES: Submit written comments on or before August 27, 2002.

ADDRESSES: Submit written comments to the Docket Office, Docket No. ICR-1218-0203(2002), OSHA, U.S. Department of Labor, Room N-2625, 200 Constitution Avenue, NW., Washington, DC 20210; telephone: (202) 693-2350. Commenters may transmit written comments of 10 pages or less by facsimile to (202) 693-1648.

FOR FURTHER INFORMATION CONTACT: Theda Kenney, Directorate of Safety Standards Programs, OSHA, U.S. Department of Labor, Room N-3609, 200 Constitution Avenue, NW., Washington, DC 20210; telephone (202) 693-2222. A copy of the Agency's Information-Collection Request (ICR) supporting the need for the collections of information collection specified by the Standard on Permit-Required Confined Spaces is available for inspection and copying in the Docket Office, or by requesting a copy from Theda Kenney at (202) 693-2222, or Todd Owen at (202) 693-2444. For electronic copies of the ICR, contact OSHA on the Internet at http://www.osha.gov and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are understandable, and OSHA's estimate of the information-collection burden is correct.

The following sections describe who uses the information collected under each requirement, as well as how they use it. The purpose of the information is to insure that employers systematically evaluate the dangers in permit spaces before entry is attempted and to insure that adequate measures are taken to make the spaces safe for entry. In addition, the information is needed to determine, during an OSHA inspection by a compliance safety and health officer, if employers are in compliance with the standard.

Section 1910.146(c)(2) requires the employer to post danger signs to inform exposed employees of the existence and location of and the danger posed by permit spaces.

Section 1910.146(c)(4) requires the employer to develop and implement a written permit space program if the employer decides that its employees will enter permit spaces. The written program is to be made available for inspection by employees and their authorized representatives. Section 1910.146(d) provides the employer with the requirements of permit-required confined space program (permit space program) required under this paragraph.

Section 1910.146(c)(5)(i)(E) requires that the determinations and supporting data required by paragraphs (c)(5)(i)(A), (c)(5)(i)(B), and (c)(5)(i)(C) of this section are documented by the employer and are made available to each employee who enters a permit space or to that employee's authorized representative.

Under paragraph (c)(5)(ii)(H) of 1910.146, the employer is required to verify that the space is safe for entry and that the pre-entry measures required by paragraph (c)(5)(ii) of this section have been taken, through a written certification that contains the date, the location of the space, and the signature of the person providing the certification. The certification is to be made before entry and is required to be made available to each employee entering the space or to that employee's authorized representative.

Section 1910.146(c)(7)(iii) requires the employer to document the basis for determining that all hazards in a permit space have been eliminated, through a certification that contains the date, the location of the space, and the signature of the person making the determination. The certification is to be made available to each employee entering the space or to that employee's authorized representative.

Section 1910.146(e) requires the employer to document the completion of measures required by paragraph (d)(3) by preparing an entry permit before employee entry is authorized. Paragraph (e)(3) requires that the employer make the completed permit available at the time of entry to all authorized entrants by posting the permit at the entry portal or by any other equally effective means, so that the entrants can confirm that pre-entry preparations have been completed. Paragraph (e)(6) requires the employer to retain each canceled entry permit for at least one year.

Section 1910.146(g)(4) requires that the employer certify that the training required by paragraphs (g)(1) through (g)(3) ¹ has been accomplished by preparing a written certification record.

¹ The Agency concludes that the training required under 1910.146(g)(1) through (g)(3) is written in performance-oriented language and, thus, not considered a collection of information under the implementing rules and guidelines of PRA-95.

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and transmission techniques.

III. Proposed Actions

OSHA proposes to extend the Office of Management and Budget's (OMB) approval of the collection-of-information requirements specified by the Standard on Permit-Required Confined Spaces (29 CFR 1910.146). The Agency will summarize the comments submitted in response to this notice, and will include this summary in its request to OMB to extend the approval of these information-collection requirements.

Type of Review: Extension of a currently-approved information-collection requirement.

Title: Permit-Required Confined Spaces (29 CFR 1910.146).

OMB Number: 1218-0203.

Affected Public: Business or other for-profit; not-for-profit institutions; Federal government; State, local, or tribal government.

Number of Respondents: 4,844,849.

Frequency of Recordkeeping: On occasion.

Average time per Response: Varies from three minutes (.05 hour) to maintain and disclose a training certification to 16 hours to develop a written permit space entry program.

Total Annual Hours Requested: 1,666,663.

Total Annual Costs (O&M): $0.

IV. Authority and Signature

John L. Henshaw, Assistant Secretary of Labor for Occupational Safety and Health, directed the preparation of this notice. The authority for this notice is the Paperwork Reduction Act of 1995 (44 U.S.C. 3506), and Secretary of Labor's Order No. 3-2000 (65 FR 50017).

Signed at Washington, DC on June 25, 2002.
John L. Henshaw,
Assistant Secretary of Labor.

[FR Doc. 02-16333 Filed 6-27-02; 8:45 am]

BILLING CODE 4510-26-M